DEPARTMENT OF ENERGY

Federal Energy Regulatory Commission

[Project No. 13503-000]

University of New Hampshire; Notice of Preliminary Permit Application Accepted for Filing and Soliciting Comments, Motions To Intervene, and Competing Applications

July 27, 2009.

On June 9, 2009, the University of New Hampshire, Center for Ocean Renewable Energy filed an application, pursuant to the FPA, proposing to study the feasibility of the General Sullivan and Little Bay Bridges Tidal Energy Project No. 13503, to be located on the Piscataqua River, in Rockingham and Strafford Counties, New Hampshire.

The proposed project would be located near the General Sullivan and Little Bay bridges and would consist of: (1) A single 10-foot-wide by 35-foot-long test platform suspending a variety of hydrokinetic devices including a Gorlov Helical turbine generating unit into the river; and (2) appurtenant facilities. Project generation would be used to power the test platform, therefore no transmission line is proposed.

Applicant Contact: Professor Ken Baldwin, Chase Ocean Engineering Laboratory, 24 Colovos, University of New Hampshire, Durham, NH 03824, (603) 862-1898.

FERC Contact: Tom Dean, (202) 502-6041.

Deadline for filing comments, motions to intervene, competing applications (without notices of intent), or notices of intent to file competing application: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13503) in the docket number field to access the document. For assistance, call toll-free 1-866-208-3372.

Kimberly D. Bose,
Secretary.

[FR Doc. E9-18297 Filed 7-30-09; 8:45 am]

BILLING CODE 6717-01-P